DEPARTMENT OF AGRICULTURE

Food and Nutrition Service

Agency Information Collection Activities: Proposed Collection; Comment Request—Supplemental Nutrition Assistance Program—Disaster Supplemental Nutrition Assistance Program (D-SNAP)

AGENCY: Food and Nutrition Service, USDA.

ACTION: Notice.

SUMMARY: In accordance with the Paperwork Reduction Act of 1995, this notice invites the general public and other public agencies to comment on the proposed collection. This is a revision of a currently approved collection. The Robert T. Stafford Disaster Relief and Emergency Assistance Act and the Food and Nutrition Act of 2008 provides the Secretary of Agriculture with the authority to develop a Disaster Supplemental Nutrition Assistance Program (D-SNAP) to address the needs of families temporarily in need of food assistance after a disaster. The information collection under this notice is required for the establishment and operation of a D-SNAP.

DATES: Written comments must be received on or before July 28, 2015.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Comments may be sent to Sasha Gersten-Paal, Chief, Certification Policy Branch, Program Development Division, Food and Nutrition Service, U.S. Department of Agriculture, 3101 Park Center Drive, Room 812, Alexandria, VA 22302. Comments may also be faxed to the attention of Ms. Gersten-Paal at (703) 305-2507 or via email to Sasha.Gersten-Paal@fns.usda.gov.

Comments will also be accepted through the Federal eRulemaking Portal. Go to http://www.regulations.gov and follow the online instructions for submitting comments electronically.

All written comments will be open for public inspection at the office of FNS during regular business hours (8:30 a.m. to 5:00 p.m., Monday through Friday) located at 3101 Park Center Drive, Room 800, Alexandria, Virginia, 22302.

All responses to this notice will be summarized and included in the request for OMB approval. All comments will be a matter of public record.

FOR FURTHER INFORMATION CONTACT: Requests for additional information should be directed to Ms. Gersten-Paal at (703) 305-2507.

SUPPLEMENTARY INFORMATION:

Title: Disaster Supplemental Nutrition Assistance Program (D-SNAP).

OMB Number: 0584-0336.

Expiration Date: 10/31/2015.

Type of Request: Revision previously approved collection.

Abstract: Pursuant to the Robert T. Stafford Disaster Relief and Emergency Assistance Act, Public Law 100-707, and Section 5(h) of the Food and Nutrition Act of 2008, 7 U.S.C. 2014(h), the Secretary of Agriculture has the authority to develop a Disaster Supplemental Nutrition Assistance Program (D-SNAP) to address the temporary food needs of people following a disaster. The information collected under this notice is required from State agencies in order to receive approval from the Food and Nutrition Service (FNS) to operate a D-SNAP.

D-SNAP is a program that is separate from the Supplemental Nutrition Assistance Program (SNAP) and is conducted for a specific period of time. In order for a State to request to operate a D-SNAP, an affected area in the State must have received a Presidential declaration of “Major Disaster” with Individual Assistance. Once the declaration is in place, the State submits a request to operate a D-SNAP to FNS. FNS reviews the request to ensure that all the necessary requirements to conduct D-SNAP are met. Upon approval of a D-SNAP, FNS provides the State support in their D-SNAP efforts through policy guidance, training and technical assistance. Since each disaster demands a separate D-SNAP program, a State can submit multiple requests to FNS to operate multiple D-SNAPs.

The number of disasters that occur annually and the average number of households affected by the disasters cannot be predicted. During the period from fiscal year 2009 through fiscal year 2014, the number of State requests for disaster programs ranged from 3 to 23 requests per year. The information collection under this reporting burden is limited to the burden experienced by State agencies in preparing and submitting their requests to operate D-SNAPs to FNS. FNS does not have a standardized form for D-SNAP requests at this time, due to the dynamic nature of emergency situations and the need to quickly respond to the requesting State agency; therefore, State agencies are required to submit their request to operate D-SNAPs to FNS via email or fax. The burden associated with the actual operation of D-SNAPs, including the processing of applications from households affected by disasters, is included under OMB information collection 0584-0064, titled `SNAP Forms: Applications, Periodic Reporting, Notices' (expiration date 04/30/2016), which includes all information collection activities associated with the certification of participating and applicant households. The D-SNAP participation and issuance form FNS-292-B, Report of Disaster Supplemental Nutrition Assistance Benefit Issuance, is covered under the OMB information collection 0584-0037 (expiration date: 08/31/2017) and will not be reflected in this submission.

FNS estimates that approximately 10 hours of State personnel time are required to prepare D-SNAP application requests. The burden associated with preparing requests to operate a D-SNAP does not vary significantly from disaster to disaster and is relatively independent of the scope of the disaster. Major disasters require little additional document preparation time than relatively minor disasters. FNS estimates an average of 9 State agencies will submit 1 D-SNAP application per year to operate D-SNAPs for a total annual request of 9 applications per year (this is a decrease from an average of 14 applications per year). We further estimate it will take approximately 10 hours of State agency personnel time to prepare each application, for a total annual burden estimate average of 90 burden hours per year. These revised estimates reflect a slight decrease since the last OMB approval.

Summary of Burden Hours

Affected Public: State agencies and local governments.

Estimated Total Annual Number of Respondents: 9.

Estimated Frequency of Responses per Respondents: 1.

Estimated Total Annual Responses: 9.

Estimated Total Hours per Response: 10.

Estimated Total Annual Burden on Respondents: 90.

OMB No. 0584-0336 Affected public | Estimated total annual number of respondents | Estimated frequency of responses per respondents | Estimated total annual responses | Estimated total hours per response | Estimated total annual burden hours
Reporting Burden State Agencies | 9 | 1 | 9 | 10 | 90
Total Annual Burden Estimate | 9 | 1 | 9 | 10 | 90

Dated: May 19, 2015.
Jeffrey J. Tribiano,
Acting Administrator, Food and Nutrition Service.

[FR Doc. 2015-13024 Filed 5-28-15; 8:45 am]

BILLING CODE 3410-30-P